DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, September 7, 2006, 9 a.m.-5 p.m., Friday, September 8, 2006, 8:30 a.m.-4 p.m.

ADDRESSES: Red Lion Hanford House, 802 George Washington Way, Richland, Washington 99352. Phone Number: (509) 946-7611. Fax Number: (509) 943-8564.

FOR FURTHER INFORMATION CONTACT: Erik Olds, Federal Coordinator, Department of Energy Richland Operations Office, 2440 Stevens Drive, P.O. Box 450, H6-60, Richland, WA 99352; Phone: (509) 376-8656; Fax: (509) 376-1214.

SUPPLEMENTARY INFORMATION: Purpose of the Board: The purpose of the Board is to make recommendations to DOE in the areas of environmental restoration, waste management, and related activities.

Tentative Agenda:

• Tri-Party Agreement Agencies Senior Managers' Annual Review and Update (U.S. Department of Energy, Office of River Protection and Richland Operations Office; the U.S. Environmental Protection Agency; and the Washington State Department of Ecology).

• Fiscal Year 2007 Hanford Advisory Board Priorities.

• Tutorial Part Two on the Waste Treatment and Immobilization Plant.

• Nominations for the new Hanford Advisory Board Chair.

• Training Session for Issue Managers.

• Discussion on Committee Leadership.

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available by writing to Erik Olds' office at the address or telephone number listed above.

Issued at Washington, DC, on June 22, 2006.
James N. Solit,
Advisory Committee Management Officer.

[FR Doc. E6-10183 Filed 6-27-06; 8:45 am]

BILLING CODE 6450-01-P